ENVIRONMENTAL PROTECTION AGENCY

[FRL-7518-3]

Availability of “Supplemental Allocation of Fiscal Year 2003 Operator Training Grants for Wastewater Security''

AGENCY: Environmental Protection Agency.

ACTION: Notice of document availability.

SUMMARY: EPA is announcing the availability of a guidance memorandum entitled “Supplemental Allocation of Fiscal Year 2003 Operator Training Grants.” This memorandum provides national guidance for the allocation of funds used under section 104(g)(l) of the Clean Water Act. By providing additional funding to the 104(g) environmental training centers throughout the United States, the program will provide on-site security assistance and classroom training security activities to operators at small community wastewater treatment facilities in order to help the facility to become more secure.

ADDRESSES: United States Environmental Protection Agency, EPA East, Municipal Assistance Branch, 1200 Pennsylvania Avenue, NW., (Mail Code 4204-M), Washington, DC 20460.

FOR FURTHER INFORMATION CONTACT: Curt Baranowski at (202) 564-0636, or email: baranowski.curt@epa.gov.

SUPPLEMENTARY INFORMATION: The subject memorandum may be viewed and downloaded from EPA's homepage, www.epa.gov/owm/tomm.htm, under “Supplemental Wastewater Security Grant Guidance.”

Dated: June 18, 2003.
Peter E. Shanaghan,
Acting Director, Office of Ground Water and Drinking Water.

[FR Doc. 03-15903 Filed 6-23-03; 8:45 am]

BILLING CODE 6560-50-P